DEPARTMENT OF THE INTERIOR

Bureau of Indian Affairs

[178A2100DD/AAKC001030/A0A501010.999900 253G]

Water Infrastructure Improvements for the Nation Act; Indian Dam Safety

AGENCY: Bureau of Indian Affairs, Interior.

ACTION: Public meeting.

SUMMARY: The Bureau of Indian Affairs (BIA), Office of Trust Services, Division of Water and Power, will be conducting a public meeting by teleconference to obtain input from landowners served by Indian dams on the implementation of the Water Infrastructure Improvements for the Nation Act with regard to Indian dam safety.

DATES: Written comments must be received by March 3, 2017. The teleconference will be held on Tuesday, February 14, 2017, from 1 p.m. to 4 p.m., Eastern Time.

ADDRESSES: You may submit comments by one of the following methods:

• Email: consultation@bia.gov.

• By hard copy: Submit by U.S. mail or hand delivery to: Ms. Elizabeth Appel, Office of Regulatory Affairs and Collaborative Action, U.S. Department of the Interior, 1849 C Street NW., Mail Stop 3642-MIB, Washington, DC 20240.

Please see the SUPPLEMENTARY INFORMATION section of this notice for directions for registering for and attending the teleconference session.

FOR FURTHER INFORMATION CONTACT: Yulan Jin, Division Chief, Water and Power, (202) 219-0941, yulan.jin@bia.gov.

SUPPLEMENTARY INFORMATION:

I. Executive Summary

The Water Infrastructure Improvements for the Nation (WIIN) Act became law on December 16, 2016. Section 3101 of the WIIN Act provides for consultation with affected Indian tribes, as well as solicitation and consideration of comments and recommendations from landowners served by relevant Indian dams, within 60 days of the Act's passage Section 3101 also requires the Secretary to submit a report to Congress within 120 days of enactment (by April 14, 2017) on programmatic goals to address the deferred maintenance needs of Indian dams and funding prioritization criteria for distributing funds from the High-Hazard Indian Dam Safety Deferred Maintenance Fund and the Low-Hazard Indian Dam Safety Deferred Maintenance Fund.

Section 3101 establishes a program to address the deferred maintenance needs of Indian dams and authorizes $32.75 million per year ($22.75 million designated for high- and significant-hazard potential dams and $10 million designated for low-hazard potential dams), plus accrued interest, for each of the fiscal years 2017 through 2023. Subject to appropriations, the funds would be available to carry out maintenance, repair, and replacement activities for qualified Indian dams.

Eligible dams are defined as dams that are included under the Indian Dams Safety Act of 1994 and that are: (1) Owned by the Federal Government (per Executive Order 13327) and managed by the BIA, including dams managed under Indian Self-Determination contracts or compacts; or (2) have deferred maintenance identified by the BIA.

II. Public Teleconference Session

The BIA will be hosting a public meeting by teleconference at the date listed in the DATES section of this notice. The call-in number is (800) 857-9738 and the passcode is 7199390. Please refer to the following Web site for additional information: https://www.bia.gov/WhoWeAre/BIA/OTS/IPSOD/index.htm.

Dated: January 27, 2017.
Michael S. Black,
Acting Assistant Secretary—Indian Affairs.

[FR Doc. 2017-02201 Filed 2-1-17; 8:45 am]

BILLING CODE 4337-15-P